DEPARTMENT OF TRANSPORTATION

Federal Motor Carrier Safety Administration

Public Meeting on Implementation of the North American Standard for Cargo Securement

AGENCY: Federal Motor Carrier Safety Administration (FMCSA), DOT.

ACTION: Notice of public meeting.

SUMMARY: FMCSA announces a public meeting concerning implementation of the North American Standard for Protection Against Shifting or Falling Cargo. The meeting's purpose is to discuss a process for ensuring consistent interpretation of the harmonized cargo securement standards by FMCSA and the Canadian Provinces, such as interpretation issues raised by U.S. enforcement agencies and motor carriers and potential implementation issues for Canadian Provinces and motor carriers operating in Canada.

On September 27, 2002, FMCSA published a final rule revising its regulations on cargo securement for commercial motor vehicles (CMVs) operated in interstate commerce; and motor carriers were given until January 1, 2004 to comply with the new regulations. The agency's new standards were based on the North American Cargo Securement Standard Model Regulations, which reflected at the time the results of a multi-year comprehensive research program to evaluate U.S. and Canadian cargo securement regulations, motor carrier industry best practices, and recommendations from public meetings involving U.S. and Canadian industry experts, Federal, State, and Provincial enforcement officials, and other interested parties. Since then, Canada's Council of Ministers Responsible for Transportation and Highway Safety approved a new National Safety Code Standard for cargo securement (September 23, 2004). Full implementation of Canada's new cargo securement requirements is expected by this summer.

DATES: April 21-22, 2005. The public meeting begins on April 21, from 1 p.m. to 5 p.m., and on April 22, from 8 a.m. to 5 p.m.

ADDRESSES: The meeting is at the Albuquerque Convention Center, 401 Second Street NW., Albuquerque, New Mexico.

FOR FURTHER INFORMATION CONTACT: Mr. Larry W. Minor, Director of the Office of Bus and Truck Standards and Operations, FMCSA, phone (202) 366-4009; FAX to (202) 366-8842; or e-mail: Larry.Minor@fmcsa.dot.gov.

SUPPLEMENTARY INFORMATION:

Background

FMCSA published a final rule revising its regulations concerning protection against shifting and falling cargo for CMVs operated in interstate commerce, on September 27, 2002 (67 FR 61212). Motor carriers had until January 1, 2004 to comply with the new regulations. The regulations were intended to reduce the number of crashes caused by cargo shifting on or within, or falling from, CMVs operating in interstate commerce, and to harmonize U.S., Canadian, and Mexican cargo securement regulations. On September 23, 2004, Canada's Council of Ministers Responsible for Transportation and Highway Safety approved a new National Safety Code Standard for cargo securement. The new Canadian securement requirements are expected to be fully implemented by this summer, 2005.

Maintaining Uniformity Between U.S. and Canadian Cargo Securement Standards

FMCSA believes it is necessary to continue working with U.S. and Canadian industry experts, Federal, State, and Provincial enforcement officials and other interested parties to maintain harmonization of U.S. and Canadian cargo securement standards. A major part of this effort includes uniformity in interpreting the meaning of requirements adopted by the U.S. and Canada. While there are some differences between certain provisions adopted by FMCSA and Canada's National Safety Code Standard 10, the contents of most of the Model Regulations have been adopted, or will be adopted shortly, by almost all jurisdictions in the U.S. and Canada. To ensure consistency in the interpretation and enforcement of the requirements, FMCSA is working with its Canadian partners to develop a process for sharing information about requests for interpretation, and exchanging technical information that will be helpful to the regulatory agencies in developing their responses to such requests. FMCSA will continue to work with its Canadian partners to ensure that interpretations are provided in an efficient and timely manner to all interested parties.

As a first step, FMCSA is holding a public meeting to provide all interested parties an opportunity to participate in discussions between the agency and its Canadian counterparts about interpretations and other implementation issues.

Additional Meeting Information

The meeting is on April 21-22, 2005, at the Albuquerque Convention Center (Enchantment 1 Room), 401 Second Street NW., Albuquerque, New Mexico. On April 21, the meeting is from 1 to 5 p.m.; and on April 22, from 8 a.m. to 5 p.m. This meeting is free of charge and open to all interested parties.

The public meeting is being held immediately after the Commercial Vehicle Safety Alliance's (CVSA's) 2005 Annual Conference ends. If you are interested in attending CVSA's conference sessions and committee meetings, you must register with CVSA and pay the appropriate registration fee. For further information about registering, you should contact CVSA at (202) 775-1623.

Issued on: March 28, 2005.
Annette M. Sandberg,
Administrator.

[FR Doc. 05-6488 Filed 3-31-05; 8:45 am]

BILLING CODE 4910-EX-P